DEPARTMENT OF COMMERCE

National Institute of Standards and Technology

[Docket No. 000929280-0280-01]

RIN 0693-ZA-42

Announcing Draft Federal Information Processing Standard (FIPS) for the Advanced Encryption Standard (AES) and Request for Comments

AGENCY: National Institute of Standards and Technology (NIST), Commerce.

ACTION: Notice; request for comments.

SUMMARY: Recently, NIST announced its selection for the Advanced Encryption Standard (AES) in a report available at http://www.nist.gov/aes/, and this selection for the AES has now been described in detail in a Draft Federal Information Processing Standard (FIPS) for the AES. The Draft FIPS for the AES specifies technology that can be used to protect the confidentiality of sensitive (unclassified) electronic information. The AES specification will provide a FIPS-approved encryption algorithm in addition to the Triple Data Encryption Algorithm (“Triple DES”), which is specified in FIPS 46-3.

NIST invites public comments on the Draft FIPS for the AES. After the comment period closes, NIST will analyze the comments, make changes to the document, as appropriate, and then propose the draft standard to the Secretary of Commerce for approval as a FIPS.

DATES: Comments on the Draft FIPS for the AES must be received on or before May 29, 2001.

Specifications: Specifications for the Draft FIPS for the AES are available through the AES home page: http://www.nist.gov/aes/.

ADDRESSES: Official comments on the Draft FIPS for the AES may either be sent electronically to AEScomments@nist.gov or by regular mail to: Chief, Computer Security Division, Information Technology Laboratory, ATTN: Comments on Draft FIPS for the AES, 100 Bureau Drive, Stop 8930, National Institute of Standards and Technology, Gaithersburg, MD 20899-8930.

FOR FURTHER INFORMATION CONTACT: Mr. James Foti (301) 975-5237, jfoti@nist.gov, National Institute of Standards and Technology, 100 Bureau Drive, STOP 8930, Gaithersburg, MD 20899-8930.

SUPPLEMENTARY INFORMATION: In January 1997, NIST initiated an effort to develop the Advanced Encryption Standard (AES), which would provide cryptographic security well into the twenty-first century. In August 1999, NIST announced five publicly submitted candidate algorithms as finalists for the AES, and invited public review, comment, and analysis in order to make a selection for the Draft FIPS for the AES. During the Round 2 technical evaluation period, these five finalists were subjected to extensive analysis and testing by the cryptographic community. After much careful study and consideration of the finalists and Round 2 public comments, NIST made its selection for the Draft FIPS for the AES, and issued a report explaining that selection. The report is available at http://www.nist.gov/aes/.

NIST strongly encourages the public to continue performing analyses of the security of the AES, and to submit those analyses as official comments in response to this request. Such analyses and other comments received will be considered by NIST in preparing the final version of the FIPS for the AES.

NIST seeks detailed comments regarding any intellectual property that may be infringed by the practice of the algorithm(s) in the Draft FIPS for the AES. This includes comments from all parties regarding specific claims that the practice of a finalists algorithm infringes on their patent(s). Claims regarding infringement of copyrighted software are also particularly solicited. NIST views this input as a critical factor in the eventual widespread adoption and implementation of the Draft FIPS for the AES.

NIST reminds all interested parties that the AES development effort is being conducted as an open standards-setting activity. Specifically, NIST has requested that all interested parties identify to NIST any patents or inventions that may be required for the use of AES. Public comments received in response to this request will be posted periodically during the comment period at http://csrc.nist.gov/cryptval/aes/draftfips/.

To encourage on-going discussions related to the AES, NIST will continue to maintain its AES electronic discussion forum at http://aes.nist.gov/aes/. Please note that comments posted at that site will NOT be considered “official” comments.

No additional conferences are planned for the Draft FIPS for the AES at this time.

NIST intends to develop a Draft FIPS for AES Modes of Operation. Given the need for further public discussion and study of suggested modes of operation, NIST will hold a public workshop to discuss the Draft FIPS. Details on this effort are located at http://www.nist.gov/modes/.

Authority: Federal Information Processing Standards Publications (FIPS PUBS) are issued by the National Institute of Standards and Technology after approval by the Secretary of Commerce pursuant to section 5131 of the Information Technology Management Reform Act of 1996 and the Computer Security Act of 1987, Public Law 100-235.

E.O. 12866: This notice has been determined to be significant for purposes of E.O. 12866.

Dated: February 20, 2001.
Karen Brown,
Acting Director, NIST.

[FR Doc. 01-4886 Filed 2-27-01; 8:45 am]

BILLING CODE 3510-CN-M